DEPARTMENT OF ENERGY

Federal Energy Regulatory Commission

[Project No. 13994-002]

Public Utility District No. 1 of Snohomish County; Notice of Technical Meeting

a. Project Name and Number: Hancock Creek Hydroelectric Project No. 13994.

b. Date and Time of Meeting: February 5, 2015; 3:30 p.m. Eastern Time (12:30 p.m. Pacific Time).

c. Place: Telephone conference with the U.S. Fish and Wildlife Service (FWS) and the Public Utility District No. 1 of Snohomish County (Snohomish PUD).

d. FERC Contact: Kelly Wolcott, kelly.wolcott@ferc.gov or (202) 502-6480.

e. Purpose of Meeting: To discuss the endangered species consultation under section 7 of the Endangered Species Act relative to the northern spotted owl; specifically, whether Snohomish PUD's comments on the environmental assessment and the Commission's recommendation for blasting restrictions to protect the northern spotted owl require additional consultation with FWS. Discussion pertaining to this topic will be limited to Commission staff, Snohomish PUD, and FWS. Other participants may listen in and provide any germane information related to this topic.

f. A summary of the meeting will be prepared and placed in the project's record.

g. All local, State, and Federal agencies, Indian tribes, and other interested parties are invited to participate by phone. Please contact Kelly Wolcott at kelly.wolcott@ferc.gov or (202) 502-6480 by close of business Tuesday, February 2, 2015, to RSVP and to receive specific instructions on how to participate.

Dated: January 22, 2015.
Kimberly D. Bose,
Secretary.

[FR Doc. 2015-01729 Filed 1-29-15; 8:45 am]

BILLING CODE 6717-01-P